PEACE CORPS

Privacy Act: System of Records

AGENCY: Peace Corps.

ACTION: Notice of adoption of new system of records.

SUMMARY: Pursuant to the provisions of the Privacy Act of 1974 (5 U.S.C. 552a), the Peace Corps issued public notice of its proposal to adopt a new system of records, PC-28, titled Applications for Employment. This second publication reflects technical revisions to the new system of records based on internal Agency comments and gives notice of the Agency's adoption of the new system of records.

DATES: This New System of Records was effective on July 26, 2005.

FOR FURTHER INFORMATION CONTACT: The Records Management Officer, Peace Corps Headquarters, 1111 20th St., NW., Washington, DC 20526.

SUPPLEMENTARY INFORMATION: Pursuant to the Privacy Act of 1974, the Peace Corps issued public notice on June 16, 2005, of its proposal to adopt a new systems of records titled PC-28, Applications for Employment. The Agency did not receive any public comments. However, it did receive internal agency comments. This second publication reflects technical changes but does not include any substantive revisions. The publication also gives notice of the Agency's adoption of the new system of records.

Peace Corps (PC-28)

System name:

Applications for Employment.

System location:

Office of Management, Human Resources Management, 1111 20th Street NW., Washington DC 20526. Occasionally located on a temporary basis in domestic offices and overseas Posts. Electronic records are stored offsite by a contracted agent of the agency in a secure facility.

Categories of individuals covered by the system:

All applicants for employment with the Peace Corps (including unsuccessful applicants).

Categories of records in the system:

To the extent that an agency utilizes an automated medium in connection with maintenance of records in this system of records.

Application forms, resumes and related correspondence. Position vacancy announcement information such as position title, series and grade level(s), office and duty location, opening and closing date of the announcement, and dates of referral and return of lists of qualified candidates; applicant personal data such as name, address, social security number, date of birth, sex, veterans' preference and federal competitive status; and applicant qualification and processing information such as qualifications, grade level eligibility, reason for ineligibility, referral status, and dates of notification.

Related correspondence may include referral letters and memoranda relating to the application process; education and training related documentation; employment history and earnings; honors, awards or fellowships; military service; convictions or offenses against the law; names of relatives employed in the Federal service; qualification determinations; employment consideration; priority groupings; correspondence relating to the consideration of the individual for employment. These records may also include copies of correspondence (electronic and otherwise) between the applicant and the office or agency and other items provided by applicants but not specifically requested by the agency.

The system also includes any Peace Corps employment application materials established for making appointments outside a register; or reassignments, promotions, reinstatements, or transfers of Federal employees into positions at Peace Corps.

The records also contain information on the ranking of an applicant, his or her placement on a list of eligibles, what certificates/rosters applicant's names appeared on, requests for office approval of or opposition to an eligible's qualifications and the office's decision in the matter, an office's request for approval for the agency to pass over an eligible and the office's decision in the matter, and an agency's decision to object/pass over an eligible when the agency has authority to make such decisions. Reasons for when the objection/pass over decision applies to a compensable preference eligible with 30 percent or more disability. Records may also include: Agency applicant file systems where the agency retains applications, resumes, and other related records for hard-to-fill or unique positions for future consideration. Records and statements related to an applicant's involvement in intelligence related activities.

Authority for maintenance of system:

The Peace Corps Act, 22 U.S.C. 2501, et seq., including 22 U.S.C. 2506 and 22 U.S.C. 3901 et seq. (Foreign Service Act of 1980).

Routine uses of records maintained in the system, including categories of users and the purposes of such uses:

General routine uses A, B, C, D, E, F, G, H, I, J, and K apply to this system.

Records may also be disclosed to:

(a) Evaluate qualifications of potential candidates by the Director, Human Resource Management and his/her delegates, Executive Staff, Hiring Managers and their delegates, other supervisors and personnel security staff. These records also may be reviewed by staff with internal audit responsibilities. The records are available to personnel specialists who review the applicants' qualifications and consider them for appropriate agency vacancies;

(b) Persons named as references, and present or former supervisors, for purposes of commenting upon, rating or verifying information about past performance submitted as part of job application;

(c) Other Federal agencies, state governments, foreign governments and international organizations where employees are being considered for detail, assignment or secondment;

(d) Attorneys, union representatives or other persons designated by employees in writing to represent them in complaints, grievances, appeals, litigation cases, or administrative processes;

(e) The Department of Labor, Department of Veterans Affairs, Social Security Administration, Department of Defense, or any other Federal agency that has special civilian employee retirement and disability programs; or to a national, state, county, municipal, or other publicly recognized charitable or income security, administration agency (e.g., State unemployment compensation agencies), when necessary to adjudicate a claim under the retirement, insurance, unemployment or health benefits programs of the agency or an agency cited above, or to an agency to conduct an analytical study or audit of benefits being paid or to be paid under such programs;

(f) Offices within Peace Corps with an official need to know;

(g) Other persons, entities, or organizations, as specified in the Privacy Act, 5 U.S.C. 552a(b)(1)-(b)(12).

Policies and practices for storing, retrieving, accessing, retaining, and disposing of records in the system:

Storage:

The records are stored by electronic means and hard copy. Records are maintained on data storage devices, lists, forms and hard copy record files. Electronic records are maintained within Peace Corps on proprietary systems or within an automated application system on data storage devices. Information contained in the automated system is housed offsite in a secure location as government owned and retrievable information.

Retrieval:

The records may be retrieved by the names of the individuals on whom they are maintained or by vacancy announcement number. In the Personnel Office, the records are recorded by name and vacancy announcement number. They can also be retrieved, by any common identifier in the automated application. These may be by individual name, social security number, vacancy announcement, demographic fields, veteran's status, current grade, grade applied for, or any other data fields completed by the applicant. Records are generally retrieved by the name with the social security number or date of birth as a secondary identifier when necessary.

Accessibility/Safeguards:

All Peace Corps employees have undergone background investigations. Access to the Agency is controlled by security guards and admission is limited to those individuals possessing a valid identification card or individuals under proper escort. The Human Resource Management (HRM) office is in a secondary secured area where even Peace Corps employees not within the HRM organization are required to have escorts. All records containing personal information are maintained in secured file cabinets or in restricted areas, access to which is limited to authorized personnel. Access to computerized files is password-protected and under the direct supervision of the system manager. The system manager and contractor have the capability of printing audit trails of access through the computer media, thereby permitting regular and ad hoc monitoring of system usage. Automated media is access limited to authorized personnel whose duties require access. Access to and use of these records are limited to those persons whose official duties require such access. Systems administered by contractors are secured by password and through a permissions based system. Permission is granted by a system administrator. Remote data storage facilities are secured through physical and system-based safeguards. Electronic files are password protected and accessible only by authorized personnel. Data maintained electronically at Peace Corps is on network servers and located in a locked room with physical access limited to authorized personnel.

Retention and disposal:

Applications from individuals who are selected for positions with the Peace Corps are placed on the permanent side of the employee's Official Personnel Folder. Paper applications rejected in the initial review because they do not meet requirements for Agency employment and applications which appear to meet requirements for Agency employment, but which are subsequently rejected, are retained for two years and then destroyed. Electronic media files are maintained indefinitely. These files remain available for the Agency when searching for qualified applicants for the variety of positions available agency-wide. Paper files on applicants may also be retained indefinitely. In divisional or regional offices, the paper records may be retained for an indefinite period of time. They are then forwarded to HRM or discarded. Applicant records, whether electronic media or hard copy will be maintained until they become inactive at which time they will be retired or destroyed in accordance with published records schedules of the Peace Corps or as approved by the National Archives and Records Administration. Most records are retained for a period of 2 years. Some records are destroyed by shredding or burning while magnetic tapes or disks are erased.

System manager(s) and address:

Director, Human Resources Management OR Records Management Officer Peace Corps Headquarters, 1111 20th St., NW., Washington, DC 20526.

Notification procedures:

Any individual who wants to known whether this system of records contains a record about him or her, who wants access to his or her record, or who wants to contest the contents of a record, should make a written request to the System Manager. Request should be accepted for processing if they contain sufficient information to convince the System Manager that the requester is the subject of the records, including identifying information needed to locate your record and a brief description of the item or items of information required. Requesters will be required to provide adequate information, such as a driver's license, employment identification card, passport, or other identifying documents. Requests for correction or amendment must identify the record to be changed and the corrective action sought. Complete Peace Corps Privacy Act procedures are set out in 22 CFR part 308.

Record access procedures:

Requests from individuals should be addressed as indicated in the notification section above. Individuals who wish to amend records pertaining to themselves should also address their requests as described in the Notification section above.

Contesting record procedures:

Individuals wishing to contest or amend information maintained in this system should specify the information being contested, the reasons for contesting it, and the proposed amendment to such information. Individuals have the right to request that we amend a record pertaining to them when it is believed to be inaccurate, or lacks relevance, timeliness, or completeness. At the time we grant access to a record, we will furnish guidelines on how to make a request to amend a record.

Requests for amendments to records must be in writing and mailed or delivered to the FOIA/Privacy Act Officer, FOIA/Privacy Act Office, Peace Corps Headquarters, 1111 20th St., NW., Washington, DC 20526, who will coordinate the review of the request to amend the record with the appropriate office(s). Such requests must contain, at a minimum, identifying information needed to locate the record, a brief description of the item or items of information to be amended, and the reason for the requested change. The requester should submit as much documentation, arguments or other data as seems warranted to support the request for amendment. We will review all requests for amendments to records within 20 working days of receipt of the request and either make the changes or inform you of our refusal to do so and the reasons.

Record source categories:

These records are normally submitted by the individuals seeking employment. Some records could come from individuals or employment agencies sponsoring the applications. Information in this system of records is provided by:

(a) The individual to whom the information pertains;

(b) Peace Corps officials;

(c) Other sources contacted to provide additional information about the individual. System exempted from certain provisions of the Privacy Act: Pursuant to 5 U.S.C. 552a(k)(4), records contained within this system that are required by statute to be maintained and used solely for statistical purposes are exempted from 5 U.S.C. 552a(c)(3), (d), (e)(1), (e)(4)(G), (H) and (I), and (f). Pursuant to 5 U.S.C. 552a(k)(5), certain records contained within this system contain confidential source information and are exempted from 5 U.S.C. 552a(c)(3), (d), (e)(1), (e)(4)(G), (H) and (I), and (f). Pursuant to 552a(k)(6), records that contain testing or examination material the release of which may compromise testing or examination procedures are also exempted from 5 U.S.C. 552a(c)(3), (d), (e)(1), (e)(4)(G), (H), and (I), and (f).

Dated: August 15, 2005.
Gilbert Smith
Associate Director for Management.

[FR Doc. 05-19023 Filed 9-22-05; 8:45 am]

BILLING CODE 6501-01-M